GENERAL SERVICES ADMINISTRATION

Performance Review Boards for Small Client Agencies Services by the General Services Administration, Names of Members

AGENCY: Office of the Deputy Regional Administration, Agency Liaison Division, General Services Administration.

ACTION: Notice.

SUMMARY: Sec. 4314(c) (1) through (5) of Title 5 U.S.C. requires each agency to establish, in accordance with regulations prescribed by the Office of Personnel Management, one or more Performance Review Boards. The board shall review and evaluate the initial appraisal by the supervisor of a senior executive's performance, along with any recommendations to the appointing authority relative to the performance of the senior executive. The Performance Review Board also shall make recommendations as to whether the career executive should be recertified, conditionally recertified, or not recertified.

FOR FURTHER INFORMATION CONTACT: Ms. Melynda Clarke, General Services Administration, Office of the Regional Administrator, Agency Liaison Division, Washington, DC 20407; or by phone at (202) 708-5702.

SUPPLEMENTARY INFORMATION: As provided under section 601 of the Economy Act of 1932, amended 31 U.S.C. 1525, the General Services Administration through its Agency Liaison Division, provides various personnel management services to a number of diverse Presidential commissions, committees, boards and other agencies through reimbursable administrative support agreements. This notice is processed on behalf of the client agencies, and it supersedes all other notices in the Federal Register on this subject. Because of their small size, a Performance Review Board register has been established in which SES members from the client agencies participate. The Board is composed of SES members from various agencies. From this register of names, the head of each client agency will appoint executives to a specific board to serve a particular client agency.

The members whose names appear on the Performance Review Board standing roster to serve client agencies are:

Barry M. Goldwater Scholarship and Excellence In Education Foundation—Gerald J. Smith, Executive Secretary;

Committee for Purchase From People Who Are Blind or Severely Disabled—Leon A. Wilson, Jr., Executive Director;

Federal Retirement Thrift Investment Board—David L. Black, Director of Accounting; Lawrence E. Stiffler, Director of automated Systems; Thomas J. Trabucco, Director of Benefits and Investment; Elizabeth S. Woodruff, General Counsel; and Pamela J. Moran, Deputy Director of External Affairs;

Harry S. Truman Scholarship Foundation—Louis H. Blair, Executive Secretary;

Japan-United States Friendship Commission—Eric J. Gangloff, Executive Director;

National Mediation Board—Benetta M. Mansfield, Chief of Staff; and Mary L. Johnson, General Counsel.

Dated: April 15, 2004.
Melynda Clarke,
Director, Agency Liaison Division.

[FR Doc. 04-10764 Filed 5-11-04; 8:45 am]

BILLING CODE 6820-34-M